DEPARTMENT OF COMMERCE

National Oceanic and Atmospheric Administration

[I.D. 081701A]

ICCAT Advisory Committee; Public Meetings

AGENCY: National Marine Fisheries Service (NMFS), National Oceanic and Atmospheric Administration (NOAA), Commerce.

ACTION: Notice of public meetings.

SUMMARY: The Advisory Committee to the U.S. Section to the International Commission for the Conservation of Atlantic Tunas (ICCAT), in conjunction with the International Fisheries Division of NMFS, announces the schedule of regional public meetings to be held this fall and a workshop on Atlantic bluefin tuna mixing.

DATES: The meetings are scheduled for September and October, 2001. See SUPPLEMENTARY INFORMATION for specific dates and times of the meetings

ADDRESSES: The meetings will be held in New York, Louisiana, South Carolina, Massachusetts, and Maryland. See SUPPLEMENTARY INFORMATION for specific addresses of the meetings.

FOR FURTHER INFORMATION CONTACT: Rachel Husted at 301-713-2276.

SUPPLEMENTARY INFORMATION: The regional public meetings are scheduled as follows:

Thursday, September 6, 2001, 7 p.m. to 9:30 p.m.- Holiday Inn, 3845 Veterans Memorial Highway, Ronkonkoma, NY;

Monday, September 10, 2001, 7 p.m. to 9:30 p.m. - W New Orleans Hotel, 333 Poydras Street, New Orleans, LA;

Tuesday, September 11, 2001, 7 p.m. to 9:30 p.m.- Marine Research Institute Auditorium, 217 Fort Johnson Road, Charleston, SC;

Wednesday, September 19, 2001, 7 p.m. to 9:30 p.m.- Holiday Inn at Boston Logan Airport, 225 McClellan Highway, Boston, MA.

The following topics may be presented to the public for discussion at the regional meetings:

(1) Background on ICCAT

(2) Information on the Advisory Committee and Commissioners

(3) Status of Highly Migratory Species Managed by ICCAT

(4) Topics for the 2001 ICCAT Annual Meeting

Representatives from the Advisory Committee to the U.S. Section to ICCAT and NMFS will be in attendance at the regional meetings. There will be an opportunity for public comment on each of these international issues. The length of the meetings may be adjusted based on the progress of the discussions.

Tuesday, September 18, from 9 a.m. to 4 p.m.- The Advisory Committee will convene for a workshop on Atlantic bluefin tuna mixing. NMFS scientists will provide an update on the results of an intersessional meeting of ICCAT’s Standing Committee on Research and Statistics. The Committee’s workshop, which is open to the public, will be held at the Holiday Inn Silver Spring, 8777 Georgia Avenue, Silver Spring, MD.

Additionally, the annual fall meeting of the Advisory Committee will be held on October 28-30, 2001, at the Holiday Inn Silver Spring, 8777 Georgia Avenue, Silver Spring, MD. There will be opportunity for public comment on international issues on Sunday October 28, from 1 p.m. - 6 p.m. Domestic issues will not be discussed. An agenda for the annual fall Advisory Committee meeting will be available at a later date.

Special Accommodations

The meeting locations are physically accessible to people with disabilities. Requests for sign language interpretation or other auxiliary aids should be directed to Rachel Husted at (301) 713-2276 at least 5 days prior to the meeting date.

Dated: August 22, 2001.
Bruce C. Morehead,
Acting Director, Office of Sustainable Fisheries, National Marine Fisheries Service.

[FR Doc. 01-21689 Filed 8-23-01; 4:48 pm]

BILLING CODE 3510-22-S